DEPARTMENT OF ENERGY

Federal Energy Regulatory Commission

Notice of Effectiveness of Exempt Wholesale Generator Status

February 6, 2017.

Wolf Hollow II Power, LLC | EG17-19-000
Colorado Bend II Power, LLC | EG17-20-000
Portal Ridge Solar C, LLC | EG17-21-000
Pima Energy Storage System, LLC | EG17-23-000
Portal Ridge Solar A, LLC | EG17-24-000
Three Peaks Power, LLC | EG17-25-000
Fluvanna Wind Energy, LLC | EG17-26-000
American Falls Solar, LLC | EG17-27-000
American Falls Solar II, LLC | EG17-28-000
Rocksprings Val Verde Wind LLC | EG17-29-000
Niles Valley Energy LLC | EG17-30-000
IMG Midstream LLC | EG17-31-000
SR South Loving LLC | EG17-32-000
Footprint Power Salem Harbor Development LP | EG17-33-000

Take notice that during the month of January 2017, the status of the above-captioned entities as Exempt Wholesale Generators became effective by operation of the Commission's regulations. 18 CFR 366.7(a) (2017)

Dated: February 6, 2017.
Nathaniel J. Davis, Sr.,
Deputy Secretary

[FR Doc. 2017-02777 Filed 2-9-17; 8:45 am]

BILLING CODE 6717-01-P